DEPARTMENT OF STATE

[Public Notice 6423]

In the Matter of the Review of the Designation of the Basque Fatherland and Liberty, the National Liberation Army, the Islamic Resistance Movement, Hizballah, the Popular Front for the Liberation of Palestine—GC, the Kurdistan Workers Party, the Abu Sayyaf Group, and All Associated Aliases as Foreign Terrorist Organizations Pursuant to Section 219 of the Immigration and Nationality Act, as Amended

Based upon a review of the Administrative Records assembled in this matter, and in consultation with the Attorney General and the Secretary of the Treasury, I conclude that the circumstances that were the basis for the 2003 re-designations of the aforementioned organizations as foreign terrorist organizations have not changed in such a manner as to warrant revocation of the designations and that the national security of the United States does not warrant a revocation.

Therefore, I hereby determine that the designation of the aforementioned organizations as foreign terrorist organizations, pursuant to Section 219 of the Immigration and Nationality Act, as amended (8 U.S.C. 1189), shall be maintained.

This determination shall be published in the Federal Register.

Dated: October 29, 2008.
John D. Negroponte,
Deputy Secretary of State.

[FR Doc. E8-26496 Filed 11-5-08; 8:45 am]

BILLING CODE 4710-10-P